DEPARTMENT OF HEALTH AND HUMAN SERVICES

Administration for Children and Families

[OMB No.: 0970-0204]

Submission for OMB Review; Comment Request; Grants to States for Access and Visitation

Description: On an annual basis, States must provide OCSE with data on programs that the Grants to States for Access and Visitation Program has funded. These program reporting requirements include, but are not limited to, the collection of data on the number of parents served, types of services delivered, program outcomes, client socio economic data, referrals sources, and other relevant data.

Respondents: State Child Access and Visitation Programs and State and/or Local Service Providers.

Annual Burden Estimates
Instruments: state and local child access program survey | Number of respondents | Number of responses per respondent | Average burden hours per response | Total burden hours
Part I: 54 states/jurisdictions | 54 | 1 | 16 | 864
Part II: 296 local service grantees (estimated) | 296 | 1 | 16 | 4736

Estimated Total Annual Burden Hours: 5600.

Additional Information:

Copies of the proposed collection may be obtained by writing to the Administration for Children and Families, Office of Planning Research and Evaluation, 330 C Street SW, Washington, DC, 20201. Attention Reports Clearance Officer. All requests should be identified by title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget Paperwork Reduction Project Email: OIRA_SUBMISSION@OMB.EOP.GOV.

Attn.: Desk Officer for the Administration for Children and Families

Robert Sargis,
Reports Clearance Officer.

[FR Doc. 2018-10820 Filed 5-21-18; 8:45 am]

BILLING CODE 4184-41-P